DEPARTMENT OF HEALTH AND HUMAN SERVICES

Health Resources and Services Administration

Agency Information Collection Activities: Proposed Collection: Comment Request

ACTION: Notice.

SUMMARY: In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

HRSA especially requests comments on: (1) The necessity and utility of the proposed information collection for the proper performance of the agency's functions, (2) the accuracy of the estimated burden, (3) ways to enhance the quality, utility, and clarity of the information to be collected, and (4) the use of automated collection techniques or other forms of information technology to minimize the information collection burden.

Information Collection Request Title: The National Health Service Corps (NHSC) Site Retention Assessment Questionnaire (OMB No. 0915-xxxx)—New

Abstract: The National Health Service Corps (NHSC) provides health professionals with loan repayment and scholarships in return for their service to underserved areas. The NHSC's mission is to improve access to primary care, which is supported by clinicians who remain in their sites well beyond their contracted periods of service. However, many sites are unaware of their influence and impact on clinician retention levels. The purpose of this project is to gather survey information from administrative officials at NHSC-approved sites that will guide NHSC initiatives and assist sites in improving their retention outcomes. The survey will ask site administrators to rate how difficult it is to retain clinicians, their general attitudes about the feasibility of good retention and awareness of its principles, their practices' current approaches to promoting retention, ratings on various aspects of their practices' organizational culture and administrative style, and their sites' interest in and preferred ways of learning how to bolster retention. Survey data will be gathered anonymously and presented in aggregate, to promote administrators' participation and full disclosure.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and, to transmit or otherwise disclose the information. The total annual burden hours estimated for this Information Collection Request are summarized in the table below.

The annual estimate of burden is as follows:

Form name | Number of respondents | Number of responses per respondent | Total responses | Average burden per response (in hours) | Total burden hours
NHSC Site Retention Assessment Questionnaire | 7,000 | 1 | 7,000 | 0.507 | 3,549
Total | 7,000 | 1 | 7,000 | 0.507 | 3,549

ADDRESSES: Submit your comments to paperwork@hrsa.gov or mail the HRSA Reports Clearance Officer, Room 10-29, Parklawn Building, 5600 Fishers Lane, Rockville, MD 20857.

Deadline: Comments on this Information Collection Request must be received within 60 days of this notice.

Dated: November 7, 2012.
Bahar Niakan,
Director, Division of Policy and Information Coordination.

[FR Doc. 2012-27563 Filed 11-9-12; 8:45 am]

BILLING CODE 4165-15-P